DEPARTMENT OF ENERGY

Federal Energy Regulatory Commission

[Docket No. RP03-346-000]

Williston Basin Interstate Pipeline Company; Notice of Tariff Filing

April 23, 2003.

Take notice that on April 18, 2003, Williston Basin Interstate Pipeline Company (Williston Basin), for filing as part of its FERC Gas Tariff, Second Revised Volume No. 1, the following revised tariff sheets to become effective May 18, 2003:

Ninth Revised Sheet No. 510

Ninth Revised Sheet No. 560

Williston Basin states that it has revised the above-referenced tariff sheets found in the Form of Transportation Service Agreement Section of its Tariff, to accurately reflect that the surcharges may be billed on both a reservation and commodity rate basis.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 30, 2003.

Magalie R. Salas,
Secretary.

[FR Doc. 03-10544 Filed 4-28-03; 8:45 am]

BILLING CODE 6717-01-P